FEDERAL COMMUNICATIONS COMMISSION

47 CFR Part 73

[DA 02-2101; MB Docket No. 02-258, RM-10500; MB Docket No. 02-259, RM-10501; MB Docket No. 02-260, RM-10502; MB Docket No. 02-261, RM-10503; MB Docket No. 02-262, RM-10504; MB Docket No. 02-263 RM-10498; MB Docket No. 02-264, RM-10505; MB Docket No 02-265, RM-10556]

Radio Broadcasting Services; Dickens, TX, Floydada, TX, Freer, TX, Ozona, TX, Rankin, TX, Safford, AZ, San Diego, TX, and Westbrook, TX

AGENCY: Federal Communications Commission.

ACTION: Proposed rule.

SUMMARY: This document proposes eight new allotments in Dickens, Texas, Floydada, Texas, Freer, Texas, Ozona, Texas, Rankin, Texas, Safford, Arizona, San Diego, Texas, and Westbrook, Texas. The Audio Division requests comment on a petition filed by Maurice Salsa proposing the allotment of Channel 294A at Dickens, Texas, as the community's first local aural transmission service. Channel 294A can be allotted to Dickens in compliance with the Commission's minimum distance separation requirements with a site restriction of 10.1 kilometers (6.3 miles) northeast to avoid a short-spacing to the license site of Station KEJS, Channel 293C2, Lubbock, Texas. The coordinates for Channel 294A at Dickens are 33-40-43 North Latitude and 100-45-00 West Longitude. See Supplementary Information, infra.

DATES: Comments must be filed on or before October 21, 2002, and reply comments on or before November 5, 2002.

ADDRESSES: Federal Communications Commission, 445 12th Street, SW., Washington, DC 20554. In addition to filing comments with the FCC, interested parties should serve the petitioner, his counsel, or consultant, as follows: Maurice Salsa, 5615 Evergreen Valley Drive, Kingwood, TX 77345; Linda Crawford, 3500 Maple Avenue #1320, Dallas, TX 75219; Robert Fabian, 4 Hickory Crossing Lane, Argyle, TX 76226; Graham County FM Associates, c/o Dan J. Alpert, 2120 N. 21st Road, Arlington, VA 22201; and Charles Crawford, 4553 Bordeaux Avenue, Dallas, TX 75205.

FOR FURTHER INFORMATION CONTACT: Rolanda F. Smith, Media Bureau, (202) 418-2180.

SUPPLEMENTARY INFORMATION: This is a synopsis of the Commission's Notice of Proposed Rule Making, MB Docket Nos. 02-258, 02-259, 02-260, 02-261, 02-262, 02-263, 02-264, 02-265, adopted October 21, 2002, and released November 5, 2002. The full text of this Commission decision is available for inspection and copying during regular business hours at the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

The Audio Division requests comments on a petition filed by Linda Crawford proposing the allotment of Channel 255A at Floydada, Texas, as the community's second local aural transmission service. Channel 255A can be allotted to Floydada in compliance with the Commission's minimum distance separation requirements with a site restriction of 4.3 kilometers (2.7 miles) northeast to avoid a short-spacing to the license site of Station KQBR, Channel 258C1, Lubbock, Texas. The coordinates for Channel 255A at Floydada are 34-00-54 North Latitude and 101-18-29 West Longitude.

The Audio Division requests comments on a petition filed by Linda Crawford proposing the allotment of Channel 271A at Freer, Texas, as the community's third local aural transmission service. Channel 271A can be allotted to Freer in compliance with the Commission's minimum distance separation requirements with a site restriction of 11.0 (6.8 miles) north to avoid a short-spacing to the license site of Station KILM, Channel 271C2, Raymondville, Texas. The coordinates for Channel 271A at Freer are 27-58-35 North Latitude and 98-35-05 West Longitude. Since Freer is located within 320 kilometers (199 miles) of the U.S.-Mexican border, concurrence of the Mexican government has been requested.

The Audio Division requests comments on a petition filed by Robert Fabian proposing the allotment of Channel 289C1 at Ozona, Texas, as the community's second local aural transmission service. Channel 289C1 can be allotted to Ozona in compliance with the Commission's minimum distance separation requirements with a site restriction of 39.8 kilometers (24.7 miles) southwest to avoid a short-spacing to the application site of a New FM station, Channel 289C2, Mason, Texas. The coordinates for Channel 289C1 at Ozona are 30-25-54 North Latitude and 101-27-42 West Longitude. Since Ozona is located within 320 kilometers (199 miles) of the U.S.-Mexican border, concurrence of the Mexican government has been requested.

The Audio Division requests comments on a petition filed by Robert Fabian proposing the allotment of Channel 229C3 at Rankin, Texas, as the community's first local aural transmission service. Channel 229C3 can be allotted to Rankin in compliance with the Commission's minimum distance separation requirements with a site restriction of 12.6 kilometers (7.8 miles) east of Rankin, Texas. The coordinates for Channel 229C3 at Rankin are 31-11-24 North Latitude and 101-48-39 West Longitude. Since Rankin is located within 320 kilometers (199 miles) of the U.S.-Mexican border, concurrence of the Mexican government has been requested.

The Audio Division requests comments on a petition filed by Graham County FM Associates proposing the allotment of Channel 246C3 at Safford, Arizona, as the community's second local aural transmission service. Channel 246C3 can be allotted to Safford in compliance with the Commission's minimum distance separation requirements at city reference coordinates. The coordinates for Channel 246C3 at Safford are 32-50-02 North Latitude and 109-42-25 West Longitude. Since Safford is located within 320 kilometers (199 miles) of the U.S.-Mexican border, concurrence of the Mexican government has been requested.

The Audio Division requests comments on a petition filed by Charles Crawford proposing the allotment of Channel 273A at San Diego, Texas, as the community's second local aural transmission service. Channel 273A can be allotted to San Diego in compliance with the Commission's minimum distance separation requirements with a site restriction of 9.6 kilometers (5.9 miles) west to avoid a short-spacing to the license site of Station KNDA, Channel 275C2, Alice, Texas. The coordinates for Channel 273A at San Diego are 27-46-29 North Latitude and 98-20-04 West Longitude. Since San Diego is located within 320 kilometers (199 miles) of the U.S.-Mexican border, concurrence of the Mexican government has been requested.

The Audio Division requests comments on a petition filed by Maurice Salsa proposing the allotment of Channel 272A at Westbrook, Texas, as the community's first local aural transmission service. Channel 272A can be allotted to Westbrook in compliance with the Commission's minimum distance separation requirements with a site restriction of 6.8 kilometers (4.2 miles) west to avoid a short-spacing to the license site of Station KFZX, Channel 271C, Gardendale, Texas. The coordinates for Channel 272A at Westbrook are 32-22-24 North Latitude and 101-04-58 West Longitude. Since Westbrook is located within 320 kilometers (199 miles) of the U.S.-Mexican border, concurrence of the Mexican government has been requested.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by adding Channel 246C3 at Safford.

3. Section 73.202(b), the Table of FM Allotments under Texas, is amended by adding Dickens, Channel 294A; by adding Channel 255A at Floydada; by adding Channel 271A at Freer; by adding Channel 289C1 at Ozona; by adding Rankin, Channel 229C3; by adding Channel 273A at San Diego; by adding Westbrook, Channel 272A.

Federal Communications Commission.
John A. Karousos,
Assistant Chief, Audio Division, Media Bureau.

[FR Doc. 02-23138 Filed 9-11-02; 8:45 am]

BILLING CODE 6712-01-P